NUCLEAR REGULATORY COMMISSION

[Docket Nos. 50-237, 50-249, 50-373, 50-374, 50-352, 50-353, 50-410, 50-277, 50-278, 50-254, and 50-265; NRC-2020-0151]

Exelon Generation Company, LLC; Dresden Nuclear Power Station, Units 2 and 3; LaSalle County Station, Units 1 and 2; Limerick Generating Station, Units 1 and 2; Nine Mile Point Nuclear Station, Unit 2; Peach Bottom Atomic Power Station, Units 2 and 3; and Quad Cities Nuclear Power Station, Units 1 and 2

Correction

In notice document 2020-14405, appearing on pages 40323 through 40327 in the issue of Monday, July 6, 2020 make the following correction.

On page 40323, in the third column, on the second line, “August 5, 2020” should read “September 4, 2020”.

[FR Doc. C1-2020-14405 Filed 7-10-20; 8:45 am]

BILLING CODE 1300-01-D